DEPARTMENT OF AGRICULTURE

Agricultural Marketing Service

7 CFR Parts 1005, 1006 and 1007

[AMS-DA-07-0059; AO-388-A22, AO-356-A43 and AO-366-A51; Docket No. DA-07-03]

Milk in the Appalachian, Florida and Southeast Marketing Areas; Notice of Hearing on Proposed Amendments to Tentative Marketing Agreements and Orders

7 CFR Part | Marketing area | AO Nos.
1005 | Appalachian | AO-388-A22
1006 | Florida | AO-356-A43
1007 | Southeast | AO-366-A51

AGENCY: Agricultural Marketing Service, USDA.

ACTION: Proposed rule; Notice of public hearing on proposed rulemaking.

SUMMARY: A public hearing is being held to consider proposals seeking to amend certain pooling and related provisions of the Appalachian, Florida and Southeast orders. Proposals include temporarily adjusting the Class I pricing surface for each county within each of the three milk marketing orders until such time that the Department is able to comprehensively address the Class I pricing surface on a national scale. Proposals also include changing the diversion percentage limits, the producer delivery days and the transportation credit provisions of the Appalachian and Southeast orders. Other proposals would change the maximum rates for each of the three orders the market administrator may charge for the expense of administration of the order from 5 cents per hundredweight (cwt) up to 8 cents per cwt. Testimony will be taken to determine if any of the proposals should be handled on an emergency basis.

DATES: The hearing will convene at 1 p.m. on Monday, May, 21, 2007.

ADDRESSES: The hearing will be held at the Sheraton Suites Tampa Airport, 4400 W. Cypress Street, Tampa, FL 33607, (813) 873-8675.

FOR FURTHER INFORMATION CONTACT: Gino M. Tosi, Associate Deputy Administrator, Order Formulation and Enforcement Branch, USDA/AMS/Dairy Programs, STOP 0231—Room 2971-A, 1400 Independence Avenue, SW., Washington, DC 20250-0231. Gino.Tosi@usda.gov.

Persons requiring a sign language interpreter or other special accommodations should contact Sue L. Mosley, Market Administrator, at (770) 682-2501; e-mail smosley@fmmatlanta.com before the hearing begins.

SUPPLEMENTARY INFORMATION: This administrative action is governed by the provisions of Sections 556 and 557 of Title 5 of the United States Code and, therefore, is excluded from the requirements of Executive Order 12866.

Notice is hereby given of a public hearing to be held at the Sheraton Suites Tampa Airport, 4400 W. Cypress Street, Tampa, FL 33607, (813) 873-8675, beginning at 1 p.m. on Monday, May, 21, 2007, with respect to proposed amendments to the tentative marketing agreements and to the orders regulating the handling of milk in the Appalachian, Florida, and Southeast marketing areas.

The hearing is called pursuant to the provisions of the Agricultural Marketing Agreement Act of 1937, as amended (7 U.S.C. 601-674), and the applicable rules of practice and procedure governing the formulation of marketing agreements and marketing orders (7 CFR Part 900).

The purpose of the hearing is to receive evidence with respect to the economic and marketing conditions which relate to the proposed amendments, hereinafter set forth, and any appropriate modifications thereof, to the tentative marketing agreements and to the orders.

Evidence also will be taken to determine whether emergency marketing conditions exist that would warrant omission of a recommended decision under the rules of practice and procedure (7 CFR 900.12 (d)) with respect to any proposed amendments.

Actions under the Federal milk order program are subject to the Regulatory Flexibility Act (5 U.S.C. 601 et seq.). This Act seeks to ensure that, within the statutory authority of a program, the regulatory and information collection requirements are tailored to the size and nature of small businesses. For the purpose of the Act, a dairy farm is a “small business” if it has an annual gross revenue of less than $750,000, and a dairy products manufacturer is a “small business” if it has fewer than 500 employees (13 CFR 121.201). Most parties subject to a milk order are considered as a small business. Accordingly, interested parties are invited to present evidence on the probable regulatory and informational impact of the hearing proposals on small businesses. Also, parties may suggest modifications of these proposals for the purpose of tailoring their applicability to small businesses.

The amendments to the rules proposed herein have been reviewed under Executive Order 12988, Civil Justice Reform. They are not intended to have a retroactive effect. If adopted, the proposed amendments would not preempt any state or local laws, regulations, or policies, unless they present an irreconcilable conflict with this rule.

The Agricultural Marketing Agreement Act provides that administrative proceedings must be exhausted before parties may file suit in court. Under section 8c(15) (A) of the Act, any handler subject to an order may request modification or exemption from such order by filing with the Department of Agriculture (Department) a petition stating that the order, any provision of the order, or any obligation imposed in connection with the order is not in accordance with the law. A handler is afforded the opportunity for a hearing on the petition. After a hearing, the Department would rule on the petition. The Act provides that the District Court of the United States in any district in which the handler is an inhabitant, has its principle place of business, has jurisdiction in equity to review the Department's ruling on the petition, provided a bill in equity is filed not later than 20 days after the date of the entry of the ruling.

This public hearing is being conducted to collect evidence for the record concerning the effect on the orderly marketing of fluid milk by adjusting Class I differentials on a temporary basis for the Appalachian, Florida and Southeast marketing areas. Evidence will be taken to determine whether tighter pooling provisions and changes to the transportation credit provisions in the Appalachian and Southeast orders are warranted. Evidence will also be collected to consider increasing the maximum administrative assessment rates for the Appalachian, Florida and Southeast market administrators to 8 cents per hundredweight.

Interested parties who wish to introduce exhibits should provide the Presiding Officer at the hearing with (4) copies of such exhibits for the Official Record. Also, it would be helpful if additional copies are available for the use of other participants at the hearing.

List of Subjects in 7 CFR Parts 1005, 1006 and 1007

Milk marketing orders.

The authority citation for 7 CFR parts 1005, 1006 and 1007 read as follows:

Authority: 7 U.S.C. 601-674, and 7253.

The proposed amendments, as set forth below, have not received the approval of the Department.

Proposed by Dairy Cooperative Marketing Association, Inc

Proposal No. 1

This proposal would temporarily adjust the Class I pricing surface in each county within the geographical marketing area of the Appalachian milk marketing order. Specifically, this proposal, on a temporary basis, would modify section 1005.51 of the Appalachian order by including a new provision, a “Class I price adjustment,” which would be added to the Class I price “mover,” and to the section 1000.52 Class I differential, to obtain the minimum Order Class I price. The proposed changes to the Class I prices for plant locations in the Appalachian milk marketing area would range from an increase of $0.10 per cwt to an increase in $1.00 per cwt.

Proposal 1 would also reduce the volume of milk which may be pooled by diversion on the Appalachian order. Specifically, the proposal would decrease the diversion percentages by 5 percent, from 40% to 35%, for the months of March through June and for the month of December. In addition, this proposal proposes that the producer delivery day requirements be amended in the Appalachian order. The current provisions in the Appalachian order require delivery to a pool plant of not less than 2 days' production in the months of January through June, and not less than 6 days' production in the months of July through December, in order for the producer's milk to be eligible for diversion to a nonpool plant. This proposal would allow a producer's milk to be diverted to a nonpool plant if that dairy farmer's milk is delivered to a pool plant one day per month, year around.

Proposal 1 would also amend the current transportation credit balancing fund provisions in the Appalachian order. Specifically, this proposal would: (1) Add the months of January and February to the months when transportation credits are paid, and retain June as an optional payment month based on industry request and market administrator determination of need, (2) pay transportation credits on the entire load of supplemental milk, rather than the current calculated Class I portion of the load, and (3) simplify the process for determination of which producers' milk is eligible for transportation credits as supplemental milk.

1. Amend § 1005.50 by revising paragraph (b) and (c) to read as follows:

§ 1005.50 Class prices, component prices, and advanced pricing factors.

* * * * *

(b) Class I skim milk price. The Class I skim milk price per hundredweight shall be the adjusted Class I differential specified in § 1000.52 plus the adjustment to Class I prices specified in § 1005.51(b) plus the higher of the advanced pricing factors computed in paragraph (q)(1) or (2) of this section.

(c) Class I butterfat price. The Class I butterfat price per pound shall be the adjusted Class I differential specified in § 1000.52 divided by 100, plus the adjustment to Class I prices specified in § 1005.51(b) divided by 100, plus the advanced butterfat price computed in paragraph (q)(3) of this section.

* * * * *

2. Amend § 1005.51 by renaming the section, designating the first subsection as (a), amending the language, and adding a new subsection (b) to read as follows:

§ 1005.51 Class I differential, adjustments to Class I prices, and Class I price.

(a) The Class I differential shall be the differential established for Mecklenburg County, North Carolina, which is reported in § 1000.52. The Class I price shall be the price computed pursuant to § 1005.50(a) for Mecklenburg County, North Carolina.

(b) Adjustment to Class I prices. Class I prices shall be established pursuant to § 1005.50(a), (b) and (c) using the following adjustments:

State | County/parish | FIPS | Class I price adjustment
GA | CATOOSA | 13047 | 0.60
GA | CHATTOOGA | 13055 | 0.60
GA | DADE | 13083 | 0.60
GA | FANNIN | 13111 | 0.60
GA | MURRAY | 13213 | 0.60
GA | WALKER | 13295 | 0.60
GA | WHITFIELD | 13313 | 0.60
IN | CLARK | 18019 | 0.10
IN | CRAWFORD | 18025 | 0.10
IN | DAVIESS | 18027 | 0.10
IN | DUBOIS | 18037 | 0.10
IN | FLOYD | 18043 | 0.10
IN | GIBSON | 18051 | 0.10
IN | GREENE | 18055 | 0.10
IN | HARRISON | 18061 | 0.10
IN | KNOX | 18083 | 0.10
IN | MARTIN | 18101 | 0.10
IN | ORANGE | 18117 | 0.10
IN | PERRY | 18123 | 0.10
IN | PIKE | 18125 | 0.10
IN | POSEY | 18129 | 0.10
IN | SCOTT | 18143 | 0.10
IN | SPENCER | 18147 | 0.10
IN | SULLIVAN | 18153 | 0.10
IN | VANDERBURGH | 18163 | 0.10
IN | WARRICK | 18173 | 0.10
IN | WASHINGTON | 18175 | 0.10
KY | ADAIR | 21001 | 0.20
KY | ANDERSON | 21005 | 0.40
KY | BATH | 21011 | 0.40
KY | BELL | 21013 | 0.50
KY | BOURBON | 21017 | 0.40
KY | BOYLE | 21021 | 0.40
KY | BREATHITT | 21025 | 0.70
KY | BRECKINRIDGE | 21027 | 0.10
KY | BULLITT | 21029 | 0.10
KY | BUTLER | 21031 | 0.20
KY | CARROLL | 21041 | 0.10
KY | CARTER | 21043 | 0.40
KY | CASEY | 21045 | 0.20
KY | CLARK | 21049 | 0.40
KY | CLAY | 21051 | 0.50
KY | CLINTON | 21053 | 0.50
KY | CUMBERLAND | 21057 | 0.50
KY | DAVIESS | 21059 | 0.10
KY | EDMONSON | 21061 | 0.20
KY | ELLIOTT | 21063 | 0.40
KY | ESTILL | 21065 | 0.40
KY | FAYETTE | 21067 | 0.40
KY | FLEMING | 21069 | 0.40
KY | FRANKLIN | 21073 | 0.10
KY | GALLATIN | 21077 | 0.10
KY | GARRARD | 21079 | 0.40
KY | GRAYSON | 21085 | 0.20
KY | GREEN | 21087 | 0.20
KY | HANCOCK | 21091 | 0.10
KY | HARDIN | 21093 | 0.10
KY | HARLAN | 21095 | 0.50
KY | HART | 21099 | 0.20
KY | HENDERSON | 21101 | 0.10
KY | HENRY | 21103 | 0.10
KY | HOPKINS | 21107 | 0.20
KY | JACKSON | 21109 | 0.70
KY | JEFFERSON | 21111 | 0.10
KY | JESSAMINE | 21113 | 0.40
KY | KNOTT | 21119 | 0.50
KY | KNOX | 21121 | 0.50
KY | LARUE | 21123 | 0.40
KY | LAUREL | 21125 | 0.50
KY | LEE | 21129 | 0.40
KY | LESLIE | 21131 | 0.50
KY | LETCHER | 21133 | 0.50
KY | LINCOLN | 21137 | 0.40
KY | MCCREARY | 21147 | 0.50
KY | MCLEAN | 21149 | 0.40
KY | MADISON | 21151 | 0.40
KY | MARION | 21155 | 0.40
KY | MEADE | 21163 | 0.10
KY | MENIFEE | 21165 | 0.40
KY | MERCER | 21167 | 0.40
KY | MONTGOMERY | 21173 | 0.40
KY | MORGAN | 21175 | 0.40
KY | MUHLENBURG | 21177 | 0.20
KY | NELSON | 21179 | 0.10
KY | NICHOLAS | 21181 | 0.40
KY | OHIO | 21183 | 0.20
KY | OLDHAM | 21185 | 0.10
KY | OWEN | 21187 | 0.10
KY | OWSLEY | 21189 | 0.70
KY | PERRY | 21193 | 0.50
KY | POWELL | 21197 | 0.40
KY | PULASKI | 21199 | 0.50
KY | ROCKCASTLE | 21203 | 0.70
KY | ROWAN | 21205 | 0.40
KY | RUSSELL | 21207 | 0.50
KY | SCOTT | 21209 | 0.10
KY | SHELBY | 21211 | 0.10
KY | SPENCER | 21215 | 0.10
KY | TAYLOR | 21217 | 0.20
KY | TRIMBLE | 21223 | 0.10
KY | UNION | 21225 | 0.10
KY | WASHINGTON | 21229 | 0.40
KY | WAYNE | 21231 | 0.50
KY | WEBSTER | 21233 | 0.20
KY | WHITLEY | 21235 | 0.50
KY | WOLFE | 21237 | 0.40
KY | WOODFORD | 21239 | 0.40
NC | ALAMANCE | 37001 | 0.30
NC | ALEXANDER | 37003 | 0.45
NC | ALLEGHANY | 37005 | 0.45
NC | ANSON | 37007 | 0.50
NC | ASHE | 37009 | 0.45
NC | AVERY | 37011 | 0.45
NC | BEAUFORT | 37013 | 0.40
NC | BERTIE | 37015 | 0.20
NC | BLADEN | 37017 | 0.70
NC | BRUNSWICK | 37019 | 0.70
NC | BUNCOMBE | 37021 | 0.45
NC | BURKE | 37023 | 0.45
NC | CABARRUS | 37025 | 0.30
NC | CALDWELL | 37027 | 0.45
NC | CAMDEN | 37029 | 0.20
NC | CARTERET | 37031 | 0.40
NC | CASWELL | 37033 | 0.30
NC | CATAWBA | 37035 | 0.30
NC | CHATHAM | 37037 | 0.30
NC | CHEROKEE | 37039 | 0.45
NC | CHOWAN | 37041 | 0.20
NC | CLAY | 37043 | 0.45
NC | CLEVELAND | 37045 | 0.30
NC | COLUMBUS | 37047 | 0.70
NC | CRAVEN | 37049 | 0.40
NC | CUMBERLAND | 37051 | 0.30
NC | CURRITUCK | 37053 | 0.20
NC | DARE | 37055 | 0.40
NC | DAVIDSON | 37057 | 0.30
NC | DAVIE | 37059 | 0.30
NC | DUPLIN | 37061 | 0.30
NC | DURHAM | 37063 | 0.30
NC | EDGECOMBE | 37065 | 0.20
NC | FORSYTH | 37067 | 0.30
NC | FRANKLIN | 37069 | 0.30
NC | GASTON | 37071 | 0.30
NC | GATES | 37073 | 0.20
NC | GRAHAM | 37075 | 0.45
NC | GRANVILLE | 37077 | 0.30
NC | GREENE | 37079 | 0.40
NC | GUILFORD | 37081 | 0.30
NC | HALIFAX | 37083 | 0.30
NC | HARNETT | 37085 | 0.10
NC | HAYWOOD | 37087 | 0.45
NC | HENDERSON | 37089 | 0.45
NC | HERTFORD | 37091 | 0.20
NC | HOKE | 37093 | 0.30
NC | HYDE | 37095 | 0.40
NC | IREDELL | 37097 | 0.30
NC | JACKSON | 37099 | 0.45
NC | JOHNSTON | 37101 | 0.20
NC | JONES | 37103 | 0.40
NC | LEE | 37105 | 0.30
NC | LENOIR | 37107 | 0.40
NC | LINCOLN | 37109 | 0.30
NC | MCDOWELL | 37111 | 0.45
NC | MACON | 37113 | 0.45
NC | MADISON | 37115 | 0.45
NC | MARTIN | 37117 | 0.40
NC | MECKLENBURG | 37119 | 0.30
NC | MITCHELL | 37121 | 0.45
NC | MONTGOMERY | 37123 | 0.30
NC | MOORE | 37125 | 0.30
NC | NASH | 37127 | 0.30
NC | NEW HANOVER | 37129 | 0.70
NC | NORTHAMPTON | 37131 | 0.30
NC | ONSLOW | 37133 | 0.30
NC | ORANGE | 37135 | 0.30
NC | PAMLICO | 37137 | 0.40
NC | PASQUOTANK | 37139 | 0.20
NC | PENDER | 37141 | 0.70
NC | PERQUIMANS | 37143 | 0.20
NC | PERSON | 37145 | 0.30
NC | PITT | 37147 | 0.40
NC | POLK | 37149 | 0.30
NC | RANDOLPH | 37151 | 0.30
NC | RICHMOND | 37153 | 0.50
NC | ROBESON | 37155 | 0.70
NC | ROCKINGHAM | 37157 | 0.45
NC | ROWAN | 37159 | 0.30
NC | RUTHERFORD | 37161 | 0.30
NC | SAMPSON | 37163 | 0.30
NC | SCOTLAND | 37165 | 0.30
NC | STANLY | 37167 | 0.30
NC | STOKES | 37169 | 0.45
NC | SURRY | 37171 | 0.45
NC | SWAIN | 37173 | 0.45
NC | TRANSYLVANIA | 37175 | 0.45
NC | TYRRELL | 37177 | 0.40
NC | UNION | 37179 | 0.50
NC | VANCE | 37181 | 0.30
NC | WAKE | 37183 | 0.30
NC | WARREN | 37185 | 0.30
NC | WASHINGTON | 37187 | 0.40
NC | WATAUGA | 37189 | 0.45
NC | WAYNE | 37191 | 0.40
NC | WILKES | 37193 | 0.45
NC | WILSON | 37195 | 0.20
NC | YADKIN | 37197 | 0.30
NC | YANCEY | 37199 | 0.45
SC | ABBEVILLE | 45001 | 0.50
SC | AIKEN | 45003 | 0.70
SC | ALLENDALE | 45005 | 1.00
SC | ANDERSON | 45007 | 0.50
SC | BAMBERG | 45009 | 0.70
SC | BARNWELL | 45011 | 0.70
SC | BEAUFORT | 45013 | 1.00
SC | BERKELEY | 45015 | 1.00
SC | CALHOUN | 45017 | 0.70
SC | CHARLESTON | 45019 | 1.00
SC | CHEROKEE | 45021 | 0.50
SC | CHESTER | 45023 | 0.50
SC | CHESTERFIELD | 45025 | 0.30
SC | CLARENDON | 45027 | 0.70
SC | COLLETON | 45029 | 1.00
SC | DARLINGTON | 45031 | 0.70
SC | DILLON | 45033 | 0.70
SC | DORCHESTER | 45035 | 1.00
SC | EDGEFIELD | 45037 | 0.30
SC | FAIRFIELD | 45039 | 0.30
SC | FLORENCE | 45041 | 0.70
SC | GEORGETOWN | 45043 | 0.70
SC | GREENVILLE | 45045 | 0.50
SC | GREENWOOD | 45047 | 0.50
SC | HAMPTON | 45049 | 1.00
SC | HORRY | 45051 | 0.70
SC | JASPER | 45053 | 1.00
SC | KERSHAW | 45055 | 0.30
SC | LANCASTER | 45057 | 0.50
SC | LAURENS | 45059 | 0.50
SC | LEE | 45061 | 0.70
SC | LEXINGTON | 45063 | 0.70
SC | MCCORMICK | 45065 | 0.50
SC | MARION | 45067 | 0.70
SC | MARLBORO | 45069 | 0.70
SC | NEWBERRY | 45071 | 0.30
SC | OCONEE | 45073 | 0.50
SC | ORANGEBURG | 45075 | 0.70
SC | PICKENS | 45077 | 0.50
SC | RICHLAND | 45079 | 0.70
SC | SALUDA | 45081 | 0.30
SC | SPARTANBURG | 45083 | 0.50
SC | SUMTER | 45085 | 0.70
SC | UNION | 45087 | 0.50
SC | WILLIAMSBURG | 45089 | 0.70
SC | YORK | 45091 | 0.50
TN | ANDERSON | 47001 | 0.40
TN | BLOUNT | 47009 | 0.40
TN | BRADLEY | 47011 | 0.60
TN | CAMPBELL | 47013 | 0.40
TN | CARTER | 47019 | 0.40
TN | CLAIBORNE | 47025 | 0.40
TN | COCKE | 47029 | 0.40
TN | CUMBERLAND | 47035 | 0.40
TN | GRAINGER | 47057 | 0.40
TN | GREENE | 47059 | 0.40
TN | HAMBLEN | 47063 | 0.40
TN | HAMILTON | 47065 | 0.60
TN | HANCOCK | 47067 | 0.40
TN | HAWKINS | 47073 | 0.40
TN | JEFFERSON | 47089 | 0.40
TN | JOHNSON | 47091 | 0.40
TN | KNOX | 47093 | 0.40
TN | LOUDON | 47105 | 0.40
TN | MCMINN | 47107 | 0.60
TN | MARION | 47115 | 0.60
TN | MEIGS | 47121 | 0.60
TN | MONROE | 47123 | 0.60
TN | MORGAN | 47129 | 0.40
TN | POLK | 47139 | 0.60
TN | RHEA | 47143 | 0.40
TN | ROANE | 47145 | 0.40
TN | SCOTT | 47151 | 0.10
TN | SEQUATCHIE | 47153 | 0.40
TN | SEVIER | 47155 | 0.40
TN | SULLIVAN | 47163 | 0.40
TN | UNICOI | 47171 | 0.40
TN | UNION | 47173 | 0.40
TN | WASHINGTON | 47179 | 0.40
VA | ALLEGHANY | 51005 | 0.10
VA | AMHERST | 51009 | 0.40
VA | AUGUSTA | 51015 | 0.10
VA | BATH | 51017 | 0.10
VA | BEDFORD | 51019 | 0.40
VA | BLAND | 51021 | 0.40
VA | BOTETOURT | 51023 | 0.10
VA | BUCHANAN | 51027 | 0.10
VA | CAMPBELL | 51031 | 0.40
VA | CARROLL | 51035 | 0.40
VA | CRAIG | 51045 | 0.10
VA | DICKENSON | 51051 | 0.40
VA | FLOYD | 51063 | 0.40
VA | FRANKLIN | 51067 | 0.40
VA | GILES | 51071 | 0.10
VA | GRAYSON | 51077 | 0.40
VA | HENRY | 51089 | 0.40
VA | HIGHLAND | 51091 | 0.10
VA | LEE | 51105 | 0.40
VA | MONTGOMERY | 51121 | 0.40
VA | PATRICK | 51141 | 0.40
VA | PITTSYLVANIA | 51143 | 0.40
VA | PULASKI | 51155 | 0.40
VA | ROANOKE | 51161 | 0.40
VA | ROCKBRIDGE | 51163 | 0.10
VA | ROCKINGHAM | 51165 | 0.10
VA | RUSSELL | 51167 | 0.40
VA | SCOTT | 51169 | 0.40
VA | SMYTH | 51173 | 0.40
VA | TAZEWELL | 51185 | 0.40
VA | WASHINGTON | 51191 | 0.40
VA | WISE | 51195 | 0.40
VA | WYTHE | 51197 | 0.40
VA | BEDFORD CITY | 51515 | 0.40
VA | BRISTOL CITY | 51520 | 0.40
VA | BUENA VISTA CITY | 51530 | 0.10
VA | CLIFTON FORGE CITY | 51560 | 0.10
VA | COVINGTON CITY | 51580 | 0.10
VA | DANVILLE CITY | 51590 | 0.40
VA | GALAX CITY | 51640 | 0.40
VA | HARRISONBURG CITY | 51660 | 0.10
VA | LEXINGTON CITY | 51678 | 0.10
VA | LYNCHBURG CITY | 51680 | 0.40
VA | MARTINSVILLE CITY | 51690 | 0.40
VA | NORTON CITY | 51720 | 0.40
VA | RADFORD CITY | 51750 | 0.40
VA | ROANOKE CITY | 51770 | 0.40
VA | SALEM CITY | 51775 | 0.40
VA | STAUNTON CITY | 51790 | 0.10
VA | WAYNESBORO CITY | 51820 | 0.10
WV | MCDOWELL | 54047 | 0.10
WV | MERCER | 54055 | 0.10

3. Amend § 1005.13 by revising paragraph (d)(1) through (4) to read as follows:

§ 1005.13 Producer milk.

* * * * *

(d) * * *

(1) In any month of July through December, not less than 1 days' production of the producer whose milk is diverted is physically received at a pool plant during the month;

(2) In any month of January through June, not less than 1 days' production of the producer whose milk is diverted is physically received at a pool plant during the month;

(3) The total quantity of milk so diverted during the month by a cooperative association shall not exceed 25 percent during the months of July through November, January, and February, and 35 percent during the months of December and March through June, of the producer milk that the cooperative association caused to be delivered to, and physically received at, pool plants during the month;

(4) The operator of a pool plant that is not a cooperative association may divert any milk that is not under the control of a cooperative association that diverts milk during the month pursuant to paragraph (d) of this section. The total quantity of milk so diverted during the month shall not exceed 25 percent during the months of July through November, January, and February, and 35 percent during the months of December and March through June, of the producer milk physically received at such plant (or such unit of plants in the case of plants that pool as a unit pursuant to § 1005.7(d)) during the month, excluding the quantity of producer milk received from handler described in § 1000.9(c);

* * * * *

4. Amend § 1005.81 by revising (a) to read as follows:

§ 1005.81 Payments to the transportation credit balancing fund.

(a) On or before the 12th day after the end of the month (except) as provided in § 1009.90), each handler operating a pool plant and each handler specified in § 1000.9(c) shall pay to the Market Administrator a transportation credit balancing fund assessment determined by multiplying the pounds of Class I producer milk assigned pursuant to § 1005.44 by $0.15 per hundredweight or such lesser amount as the Market Administrator deems necessary to maintain a balance in the fund equal to the total transportation credits disbursed during the prior June-February period. In the event that during any month of the June-February period the fund balance is insufficient to cover the amount of credits that are due, the assessment should be based upon the amount of credits that would have been disbursed had the fund balance been sufficient.

* * * * *

5. Amend § 1005.82 by revising paragraphs (a)(1), (b), (c)(1), (d)(2) (iii), (d)(3)(v), and redesignating paragraphs (c)(2)(ii), (c)(2)(iii), (c)(2)(iv) to read as (c)(2)(i), (c)(2)(ii) and (c)(2)(iii) to read as follows:

* * * * *

(a) * * *

(1) On or before the 13th day (except as provided in § 1000.90) after the end of each of the months of January, February and July through December and any other month in which transportation credits are in effect pursuant to paragraph (b) of this section, the Market Administrator shall pay to each handler that received, and reported pursuant to § 1005.30(a)(5), bulk milk transferred from a plant fully regulated under another Federal order as described in paragraph (c)(1) of this section or that received, and reported pursuant to § 1005.30(a)(6), milk directly from producers' farms as specified in paragraph (c)(2) of this section, a preliminary amount determined pursuant to paragraph (d) of this section to the extent that funds are available in the transportation credit balancing fund. If an insufficient balance exists to pay all of the credits computed pursuant to this section, the market administrator shall distribute the balance available in the transportation credit balancing fund by reducing payments prorata using the percentage derived by dividing the balance in the fund by the total credits that are due for the month. The amount of credits resulting from this initial proration shall be subject to audit adjustment pursuant to paragraph (a)(2) of this section.

* * * * *

(4) * * *

(b) The Market Administrator may extend the period during which transportation credits are in effect (i.e., the transportation credit period) to the month of June if a written request to do so is received 15 days prior to the beginning of the month for which the request is made and, after conducting an independent investigation, finds that such extension is necessary to assure the market of an adequate supply of milk for fluid use. Before making such a finding, the Market Administrator shall notify the Director of the Dairy Division and all handlers in the market that an extension is being considered and invite written data, views, and arguments. Any decision to extend the transportation credit period must be issued in writing prior to the first day of the month for which the extension is to be effective.

(c) * * *

(1) Bulk milk received from a plant regulated under another Federal order, except Federal Order 1007; and

(2) Bulk milk received directly from the farms of dairy farmers at pool distributing plants subject to the following conditions:

(i) The farmer was not a “producer” under this order for more than 45 days during the immediately preceding months of March through May, or not more than 50 percent of the production of the dairy farmer during those 3 months, in aggregate, was received as producer milk under this order during those 3 months; and

(ii) The farm on which the milk was produced is not located within the specified marketing area of the order in this part or the marketing area of Federal Order 1007 (7 CFR part 1007).

(iii) The market administrator may increase or decrease the milk production standard specified in paragraph (c)(2)(i) of this section if the market administrator finds that such revision is necessary to assure orderly marketing and efficient handling of milk in the marketing area. Before making such a finding, the market administrator shall investigate the need for the revision either on the market administrator's own initiative or at the request of interested persons. If the investigation shows that a revision might be appropriate, the market administrator shall issue a notice stating that the revision is being considered and inviting written data, views, and arguments. Any decision to revise an applicable percentage must be issued in writing at least one day before the effective date.

(d) * * *

(iii) Subtract the applicable Class I price specified in § 1005.51 for the county in which the shipping plant is located from the Class I price applicable for the county in which the receiving plant is located;

(3) * * *

(v) Subtract the Class I price specified in § 1005.51 applicable for the county in which the origination point is located from the Class I price applicable at the receiving pool plant's location;

* * * * *

Proposed by Dairy Cooperative Marketing Association, Inc

Proposal No. 2

This proposal would temporarily adjust the Class I pricing surface in each county within the geographical marketing area of the Southeast milk marketing order. Specifically, this proposal would, on a temporary basis, modify section 1007.51 of the Southeast order by including a new provision, a “Class I price adjustment,” which would be added to the Class I price “mover,” and to the section 1000.52 Class I differential, to obtain the minimum Order Class I price. The proposed changes to the Class I prices for plant locations in the Southeast milk marketing area would range from an increase of $0.10 per cwt to an increase of $1.15 per cwt.

Proposal 2 would also reduce the volume of milk which may be pooled by diversion on the Southeast order. Specifically, the proposal would decrease the current diversion percentages for each month, from 50% for the months of January through June and 33% for the months of July through December, to 25% for the months of January, February, and July through November, and to 35% for the months of March through June and the month of December. In addition, this proposal proposes that the producer delivery day requirements be amended in the Southeast order. The current provisions in the Southeast order require delivery to a pool plant of not less than 4 days' production in the months of January through June, and not less than 10 days' production in the months of July through December, in order for the producer's milk to be eligible for diversion to a nonpool plant. This proposal would allow a producer's milk to be diverted to a nonpool plant if that dairy farmer's milk is delivered to a pool plant one day per month, year around.

Proposal 2 would also amend the current transportation credit balancing fund provisions in the Southeast order. Specifically, this proposal would: (1) Add the months of January and February to the months when transportation credits are paid, and retain June as an optional payment month based on industry request and market administrator determination of need, (2) pay transportation credits on the entire load of supplemental milk, rather than the current calculated Class I portion of the load, (3) simplify the process for determination of which producers' milk is eligible for transportation credits as supplemental milk, and (4) increase the maximum transportation credit assessment in the Southeast order from the current $0.20 per cwt to $0.30 per cwt of Class I producer milk.

1. Amend § 1007.50 by revising paragraph (b) and (c) to read as follows:

§ 1007.50 Class prices, component prices, and advanced pricing factors.

* * * * *

(b) Class I skim milk price. The Class I skim milk price per hundredweight shall be the adjusted Class I differential specified in § 1000.52 plus the adjustment to Class I prices specified in § 1007.51(b) plus the higher of the advanced pricing factors computed in paragraph (q)(1) or (2) of this section.

(c) Class I butterfat price. The Class I butterfat price per pound shall be the adjusted Class I differential specified in § 1000.52 divided by 100, plus the adjustment to Class I prices specified in § 1007.51(b) divided by 100, plus the advanced butterfat price computed in paragraph (q)(3) of this section.

* * * * *

2. Amend § 1007.51 by renaming the section, designating the first subsection as (a), amending the language, and adding a new subsection (b) to read as follows:

§ 1007.51 Class I differential, adjustments to Class I prices, and Class I price.

(a) The Class I differential shall be the differential established for Fulton County, Georgia, which is reported in § 1000.52. The Class I price shall be the price computed pursuant to § 1007.50(a) for Fulton County, Georgia.

(b) Adjustment to Class I prices. Class I prices shall be established pursuant to § 1007.50(a), (b) and (c) using the following adjustments:

State | County/Parish | FIPS | Class I price adjustment
AL | AUTAUGA | 01001 | 0.50
AL | BALDWIN | 01003 | 0.50
AL | BARBOUR | 01005 | 0.55
AL | BIBB | 01007 | 0.30
AL | BLOUNT | 01009 | 0.20
AL | BULLOCK | 01011 | 0.70
AL | BUTLER | 01013 | 0.55
AL | CALHOUN | 01015 | 0.30
AL | CHAMBERS | 01017 | 0.70
AL | CHEROKEE | 01019 | 0.30
AL | CHILTON | 01021 | 0.70
AL | CHOCTAW | 01023 | 0.50
AL | CLARKE | 01025 | 0.35
AL | CLAY | 01027 | 0.70
AL | CLEBURNE | 01029 | 0.70
AL | COFFEE | 01031 | 0.85
AL | COLBERT | 01033 | 0.30
AL | CONECUH | 01035 | 0.55
AL | COOSA | 01037 | 0.70
AL | COVINGTON | 01039 | 0.55
AL | CRENSHAW | 01041 | 0.55
AL | CULLMAN | 01043 | 0.20
AL | DALE | 01045 | 0.85
AL | DALLAS | 01047 | 0.50
AL | DE KALB | 01049 | 0.40
AL | ELMORE | 01051 | 0.50
AL | ESCAMBIA | 01053 | 0.55
AL | ETOWAH | 01055 | 0.30
AL | FAYETTE | 01057 | 0.20
AL | FRANKLIN | 01059 | 0.30
AL | GENEVA | 01061 | 0.85
AL | GREENE | 01063 | 0.30
AL | HALE | 01065 | 0.30
AL | HENRY | 01067 | 0.85
AL | HOUSTON | 01069 | 0.85
AL | JACKSON | 01071 | 0.40
AL | JEFFERSON | 01073 | 0.30
AL | LAMAR | 01075 | 0.20
AL | LAUDERDALE | 01077 | 0.30
AL | LAWRENCE | 01079 | 0.30
AL | LEE | 01081 | 0.70
AL | LIMESTONE | 01083 | 0.30
AL | LOWNDES | 01085 | 0.70
AL | MACON | 01087 | 0.70
AL | MADISON | 01089 | 0.30
AL | MARENGO | 01091 | 0.50
AL | MARION | 01093 | 0.20
AL | MARSHALL | 01095 | 0.40
AL | MOBILE | 01097 | 0.50
AL | MONROE | 01099 | 0.35
AL | MONTGOMERY | 01101 | 0.70
AL | MORGAN | 01103 | 0.30
AL | PERRY | 01105 | 0.30
AL | PICKENS | 01107 | 0.30
AL | PIKE | 01109 | 0.55
AL | RANDOLPH | 01111 | 0.70
AL | RUSSELL | 01113 | 0.70
AL | SAINT CLAIR | 01115 | 0.30
AL | SHELBY | 01117 | 0.30
AL | SUMTER | 01119 | 0.30
AL | TALLADEGA | 01121 | 0.30
AL | TALLAPOOSA | 01123 | 0.70
AL | TUSCALOOSA | 01125 | 0.30
AL | WALKER | 01127 | 0.20
AL | WASHINGTON | 01129 | 0.35
AL | WILCOX | 01131 | 0.50
AL | WINSTON | 01133 | 0.20
AR | ARKANSAS | 05001 | 0.00
AR | ASHLEY | 05003 | 0.10
AR | BAXTER | 05005 | 0.10
AR | BENTON | 05007 | 0.10
AR | BOONE | 05009 | 0.10
AR | BRADLEY | 05011 | 0.30
AR | CALHOUN | 05013 | 0.30
AR | CARROLL | 05015 | 0.10
AR | CHICOT | 05017 | 0.10
AR | CLARK | 05019 | 0.00
AR | CLAY | 05021 | 0.10
AR | CLEBURNE | 05023 | 0.10
AR | CLEVELAND | 05025 | 0.30
AR | COLUMBIA | 05027 | 0.10
AR | CONWAY | 05029 | 0.10
AR | CRAIGHEAD | 05031 | 0.10
AR | CRAWFORD | 05033 | 0.10
AR | CRITTENDEN | 05035 | 0.10
AR | CROSS | 05037 | 0.10
AR | DALLAS | 05039 | 0.00
AR | DESHA | 05041 | 0.30
AR | DREW | 05043 | 0.30
AR | FAULKNER | 05045 | 0.10
AR | FRANKLIN | 05047 | 0.10
AR | FULTON | 05049 | 0.10
AR | GARLAND | 05051 | 0.10
AR | GRANT | 05053 | 0.00
AR | GREENE | 05055 | 0.10
AR | HEMPSTEAD | 05057 | 0.30
AR | HOT SPRING | 05059 | 0.00
AR | HOWARD | 05061 | 0.00
AR | INDEPENDENCE | 05063 | 0.10
AR | IZARD | 05065 | 0.10
AR | JACKSON | 05067 | 0.10
AR | JEFFERSON | 05069 | 0.00
AR | JOHNSON | 05071 | 0.10
AR | LAFAYETTE | 05073 | 0.10
AR | LAWRENCE | 05075 | 0.10
AR | LEE | 05077 | 0.10
AR | LINCOLN | 05079 | 0.30
AR | LITTLE RIVER | 05081 | 0.30
AR | LOGAN | 05083 | 0.10
AR | LONOKE | 05085 | 0.10
AR | MADISON | 05087 | 0.10
AR | MARION | 05089 | 0.10
AR | MILLER | 05091 | 0.10
AR | MISSISSIPPI | 05093 | 0.30
AR | MONROE | 05095 | 0.10
AR | MONTGOMERY | 05097 | 0.10
AR | NEVADA | 05099 | 0.30
AR | NEWTON | 05101 | 0.10
AR | OUACHITA | 05103 | 0.30
AR | PERRY | 05105 | 0.10
AR | PHILLIPS | 05107 | 0.00
AR | PIKE | 05109 | 0.00
AR | POINSETT | 05111 | 0.30
AR | POLK | 05113 | 0.10
AR | POPE | 05115 | 0.10
AR | PRAIRIE | 05117 | 0.10
AR | PULASKI | 05119 | 0.10
AR | RANDOLPH | 05121 | 0.10
AR | SAINT FRANCIS | 05123 | 0.10
AR | SALINE | 05125 | 0.10
AR | SCOTT | 05127 | 0.10
AR | SEARCY | 05129 | 0.10
AR | SEBASTIAN | 05131 | 0.10
AR | SEVIER | 05133 | 0.00
AR | SHARP | 05135 | 0.10
AR | STONE | 05137 | 0.10
AR | UNION | 05139 | 0.10
AR | VAN BUREN | 05141 | 0.10
AR | WASHINGTON | 05143 | 0.10
AR | WHITE | 05145 | 0.10
AR | WOODRUFF | 05147 | 0.10
AR | YELL | 05149 | 0.10
FL | ESCAMBIA | 12033 | 0.55
FL | OKALOOSA | 12091 | 0.55
FL | SANTA ROSA | 12113 | 0.55
FL | WALTON | 12131 | 0.55
GA | APPLING | 13001 | 1.15
GA | ATKINSON | 13003 | 1.15
GA | BACON | 13005 | 1.15
GA | BAKER | 13007 | 0.85
GA | BALDWIN | 13009 | 0.70
GA | BANKS | 13011 | 0.70
GA | BARROW | 13013 | 0.70
GA | BARTOW | 13015 | 0.30
GA | BEN HILL | 13017 | 1.15
GA | BERRIEN | 13019 | 1.15
GA | BIBB | 13021 | 0.70
GA | BLECKLEY | 13023 | 1.00
GA | BRANTLEY | 13025 | 1.15
GA | BROOKS | 13027 | 1.15
GA | BRYAN | 13029 | 1.15
GA | BULLOCH | 13031 | 1.00
GA | BURKE | 13033 | 0.70
GA | BUTTS | 13035 | 0.70
GA | CALHOUN | 13037 | 0.85
GA | CAMDEN | 13039 | 1.15
GA | CANDLER | 13043 | 1.00
GA | CARROLL | 13045 | 0.70
GA | CHARLTON | 13049 | 1.15
GA | CHATHAM | 13051 | 1.15
GA | CHATTAHOOCHEE | 13053 | 0.70
GA | CHEROKEE | 13057 | 0.30
GA | CLARKE | 13059 | 0.70
GA | CLAY | 13061 | 0.85
GA | CLAYTON | 13063 | 0.70
GA | CLINCH | 13065 | 1.15
GA | COBB | 13067 | 0.70
GA | COFFEE | 13069 | 1.15
GA | COLQUITT | 13071 | 1.15
GA | COLUMBIA | 13073 | 0.70
GA | COOK | 13075 | 1.15
GA | COWETA | 13077 | 0.70
GA | CRAWFORD | 13079 | 0.70
GA | CRISP | 13081 | 0.85
GA | DAWSON | 13085 | 0.30
GA | DECATUR | 13087 | 1.15
GA | DE KALB | 13089 | 0.70
GA | DODGE | 13091 | 0.85
GA | DOOLY | 13093 | 0.85
GA | DOUGHERTY | 13095 | 0.85
GA | DOUGLAS | 13097 | 0.70
GA | EARLY | 13099 | 0.85
GA | ECHOLS | 13101 | 1.15
GA | EFFINGHAM | 13103 | 1.00
GA | ELBERT | 13105 | 0.70
GA | EMANUEL | 13107 | 1.00
GA | EVANS | 13109 | 1.15
GA | FAYETTE | 13113 | 0.70
GA | FLOYD | 13115 | 0.30
GA | FORSYTH | 13117 | 0.70
GA | FRANKLIN | 13119 | 0.70
GA | FULTON | 13121 | 0.70
GA | GILMER | 13123 | 0.30
GA | GLASCOCK | 13125 | 0.90
GA | GLYNN | 13127 | 1.15
GA | GORDON | 13129 | 0.30
GA | GRADY | 13131 | 1.15
GA | GREENE | 13133 | 0.70
GA | GWINNETT | 13135 | 0.70
GA | HABERSHAM | 13137 | 0.30
GA | HALL | 13139 | 0.70
GA | HANCOCK | 13141 | 0.70
GA | HARALSON | 13143 | 0.70
GA | HARRIS | 13145 | 0.70
GA | HART | 13147 | 0.70
GA | HEARD | 13149 | 0.70
GA | HENRY | 13151 | 0.70
GA | HOUSTON | 13153 | 0.70
GA | IRWIN | 13155 | 1.15
GA | JACKSON | 13157 | 0.70
GA | JASPER | 13159 | 0.70
GA | JEFF DAVIS | 13161 | 1.15
GA | JEFFERSON | 13163 | 0.70
GA | JENKINS | 13165 | 1.00
GA | JOHNSON | 13167 | 1.00
GA | JONES | 13169 | 0.70
GA | LAMAR | 13171 | 0.70
GA | LANIER | 13173 | 1.15
GA | LAURENS | 13175 | 1.00
GA | LEE | 13177 | 0.85
GA | LIBERTY | 13179 | 1.15
GA | LINCOLN | 13181 | 0.70
GA | LONG | 13183 | 1.15
GA | LOWNDES | 13185 | 1.15
GA | LUMPKIN | 13187 | 0.30
GA | MCDUFFIE | 13189 | 0.70
GA | MCINTOSH | 13191 | 1.15
GA | MACON | 13193 | 0.70
GA | MADISON | 13195 | 0.70
GA | MARION | 13197 | 0.70
GA | MERIWETHER | 13199 | 0.70
GA | MILLER | 13201 | 0.85
GA | MITCHELL | 13205 | 1.15
GA | MONROE | 13207 | 0.70
GA | MONTGOMERY | 13209 | 1.15
GA | MORGAN | 13211 | 0.70
GA | MUSCOGEE | 13215 | 0.70
GA | NEWTON | 13217 | 0.70
GA | OCONEE | 13219 | 0.70
GA | OGLETHORPE | 13221 | 0.70
GA | PAULDING | 13223 | 0.70
GA | PEACH | 13225 | 0.70
GA | PICKENS | 13227 | 0.30
GA | PIERCE | 13229 | 1.15
GA | PIKE | 13231 | 0.70
GA | POLK | 13233 | 0.70
GA | PULASKI | 13235 | 0.85
GA | PUTNAM | 13237 | 0.70
GA | QUITMAN | 13239 | 0.85
GA | RABUN | 13241 | 0.30
GA | RANDOLPH | 13243 | 0.85
GA | RICHMOND | 13245 | 0.70
GA | ROCKDALE | 13247 | 0.70
GA | SCHLEY | 13249 | 0.70
GA | SCREVEN | 13251 | 1.00
GA | SEMINOLE | 13253 | 1.15
GA | SPALDING | 13255 | 0.70
GA | STEPHENS | 13257 | 0.30
GA | STEWART | 13259 | 0.55
GA | SUMTER | 13261 | 0.85
GA | TALBOT | 13263 | 0.70
GA | TALIAFERRO | 13265 | 0.70
GA | TATTNALL | 13267 | 1.15
GA | TAYLOR | 13269 | 0.70
GA | TELFAIR | 13271 | 1.15
GA | TERRELL | 13273 | 0.85
GA | THOMAS | 13275 | 1.15
GA | TIFT | 13277 | 1.15
GA | TOOMBS | 13279 | 1.15
GA | TOWNS | 13281 | 0.30
GA | TREUTLEN | 13283 | 1.00
GA | TROUP | 13285 | 0.70
GA | TURNER | 13287 | 0.85
GA | TWIGGS | 13289 | 0.70
GA | UNION | 13291 | 0.30
GA | UPSON | 13293 | 0.70
GA | WALTON | 13297 | 0.70
GA | WARE | 13299 | 1.15
GA | WARREN | 13301 | 0.70
GA | WASHINGTON | 13303 | 0.70
GA | WAYNE | 13305 | 1.15
GA | WEBSTER | 13307 | 0.55
GA | WHEELER | 13309 | 1.15
GA | WHITE | 13311 | 0.30
GA | WILCOX | 13315 | 0.85
GA | WILKES | 13317 | 0.70
GA | WILKINSON | 13319 | 0.70
GA | WORTH | 13321 | 0.85
KY | ALLEN | 21003 | 0.20
KY | BALLARD | 21007 | 0.30
KY | BARREN | 21009 | 0.20
KY | CALDWELL | 21033 | 0.20
KY | CALLOWAY | 21035 | 0.30
KY | CARLISLE | 21039 | 0.30
KY | CHRISTIAN | 21047 | 0.20
KY | CRITTENDEN | 21055 | 0.20
KY | FULTON | 21075 | 0.30
KY | GRAVES | 21083 | 0.30
KY | HICKMAN | 21105 | 0.30
KY | LIVINGSTON | 21139 | 0.30
KY | LOGAN | 21141 | 0.20
KY | LYON | 21143 | 0.20
KY | MCCRACKEN | 21145 | 0.30
KY | MARSHALL | 21157 | 0.30
KY | METCALFE | 21169 | 0.20
KY | MONROE | 21171 | 0.50
KY | SIMPSON | 21213 | 0.20
KY | TODD | 21219 | 0.20
KY | TRIGG | 21221 | 0.20
KY | WARREN | 21227 | 0.20
LA | ACADIA | 22001 | 0.30
LA | ALLEN | 22003 | 0.30
LA | ASCENSION | 22005 | 0.20
LA | ASSUMPTION | 22007 | 0.20
LA | AVOYELLES | 22009 | 0.00
LA | BEAUREGARD | 22011 | 0.30
LA | BIENVILLE | 22013 | 0.00
LA | BOSSIER | 22015 | 0.10
LA | CADDO | 22017 | 0.10
LA | CALCASIEU | 22019 | 0.30
LA | CALDWELL | 22021 | 0.00
LA | CAMERON | 22023 | 0.20
LA | CATAHOULA | 22025 | 0.00
LA | CLAIBORNE | 22027 | 0.10
LA | CONCORDIA | 22029 | 0.00
LA | DE SOTO | 22031 | 0.00
LA | EAST BATON ROUGE | 22033 | 0.20
LA | EAST CARROLL | 22035 | 0.20
LA | EAST FELICIANA | 22037 | 0.30
LA | EVANGELINE | 22039 | 0.30
LA | FRANKLIN | 22041 | 0.00
LA | GRANT | 22043 | 0.00
LA | IBERIA | 22045 | 0.20
LA | IBERVILLE | 22047 | 0.20
LA | JACKSON | 22049 | 0.00
LA | JEFFERSON | 22051 | 0.20
LA | JEFFERSON DAVIS | 22053 | 0.30
LA | LAFAYETTE | 22055 | 0.20
LA | LAFOURCHE | 22057 | 0.20
LA | LA SALLE | 22059 | 0.00
LA | LINCOLN | 22061 | 0.10
LA | LIVINGSTON | 22063 | 0.20
LA | MADISON | 22065 | 0.00
LA | MOREHOUSE | 22067 | 0.10
LA | NATCHITOCHES | 22069 | 0.00
LA | ORLEANS | 22071 | 0.20
LA | OUACHITA | 22073 | 0.10
LA | PLAQUEMINES | 22075 | 0.20
LA | POINTE COUPEE | 22077 | 0.30
LA | RAPIDES | 22079 | 0.00
LA | RED RIVER | 22081 | 0.00
LA | RICHLAND | 22083 | 0.20
LA | SABINE | 22085 | 0.00
LA | SAINT BERNARD | 22087 | 0.20
LA | SAINT CHARLES | 22089 | 0.20
LA | SAINT HELENA | 22091 | 0.30
LA | SAINT JAMES | 22093 | 0.20
LA | SAINT JOHN THE BAPTIST | 22095 | 0.20
LA | SAINT LANDRY | 22097 | 0.30
LA | SAINT MARTIN | 22099 | 0.20
LA | SAINT MARY | 22101 | 0.20
LA | SAINT TAMMANY | 22103 | 0.30
LA | TANGIPAHOA | 22105 | 0.20
LA | TENSAS | 22107 | 0.00
LA | TERREBONNE | 22109 | 0.20
LA | UNION | 22111 | 0.10
LA | VERMILION | 22113 | 0.20
LA | VERMILION | 22113 | 0.20
LA | VERNON | 22115 | 0.00
LA | WASHINGTON | 22117 | 0.30
LA | WEBSTER | 22119 | 0.10
LA | WEST BATON ROUGE | 22121 | 0.20
LA | WEST CARROLL | 22123 | 0.10
LA | WEST FELICIANA | 22125 | 0.30
LA | WINN | 22127 | 0.00
MS | ADAMS | 28001 | 0.00
MS | ALCORN | 28003 | 0.30
MS | AMITE | 28005 | 0.40
MS | ATTALA | 28007 | 0.20
MS | BENTON | 28009 | 0.30
MS | BOLIVAR | 28011 | 0.10
MS | CALHOUN | 28013 | 0.10
MS | CARROLL | 28015 | 0.20
MS | CHICKASAW | 28017 | 0.10
MS | CHOCTAW | 28019 | 0.20
MS | CLAIBORNE | 28021 | 0.10
MS | CLARKE | 28023 | 0.50
MS | CLAY | 28025 | 0.20
MS | COAHOMA | 28027 | 0.30
MS | COPIAH | 28029 | 0.10
MS | COVINGTON | 28031 | 0.00
MS | DE SOTO | 28033 | 0.00
MS | FORREST | 28035 | 0.40
MS | FRANKLIN | 28037 | 0.00
MS | GEORGE | 28039 | 0.40
MS | GREENE | 28041 | 0.40
MS | GRENADA | 28043 | 0.10
MS | HANCOCK | 28045 | 0.30
MS | HARRISON | 28047 | 0.30
MS | HINDS | 28049 | 0.00
MS | HOLMES | 28051 | 0.20
MS | HUMPHREYS | 28053 | 0.20
MS | ISSAQUENA | 28055 | 0.20
MS | ITAWAMBA | 28057 | 0.30
MS | JACKSON | 28059 | 0.30
MS | JASPER | 28061 | 0.10
MS | JEFFERSON | 28063 | 0.00
MS | JEFFERSON DAVIS | 28065 | 0.00
MS | JONES | 28067 | 0.40
MS | KEMPER | 28069 | 0.30
MS | LAFAYETTE | 28071 | 0.30
MS | LAMAR | 28073 | 0.40
MS | LAUDERDALE | 28075 | 0.10
MS | LAWRENCE | 28077 | 0.00
MS | LEAKE | 28079 | 0.20
MS | LEE | 28081 | 0.30
MS | LEFLORE | 28083 | 0.10
MS | LINCOLN | 28085 | 0.00
MS | LOWNDES | 28087 | 0.20
MS | MADISON | 28089 | 0.20
MS | MARION | 28091 | 0.40
MS | MARSHALL | 28093 | 0.00
MS | MONROE | 28095 | 0.20
MS | MONTGOMERY | 28097 | 0.20
MS | NESHOBA | 28099 | 0.20
MS | NEWTON | 28101 | 0.10
MS | NOXUBEE | 28103 | 0.30
MS | OKTIBBEHA | 28105 | 0.20
MS | PANOLA | 28107 | 0.30
MS | PEARL RIVER | 28109 | 0.40
MS | PERRY | 28111 | 0.40
MS | PIKE | 28113 | 0.40
MS | PONTOTOC | 28115 | 0.30
MS | PRENTISS | 28117 | 0.30
MS | QUITMAN | 28119 | 0.30
MS | RANKIN | 28121 | 0.10
MS | SCOTT | 28123 | 0.10
MS | SHARKEY | 28125 | 0.20
MS | SIMPSON | 28127 | 0.10
MS | SMITH | 28129 | 0.10
MS | STONE | 28131 | 0.40
MS | SUNFLOWER | 28133 | 0.10
MS | TALLAHATCHIE | 28135 | 0.10
MS | TATE | 28137 | 0.00
MS | TIPPAH | 28139 | 0.30
MS | TISHOMINGO | 28141 | 0.30
MS | TUNICA | 28143 | 0.00
MS | UNION | 28145 | 0.30
MS | WALTHALL | 28147 | 0.40
MS | WARREN | 28149 | 0.00
MS | WASHINGTON | 28151 | 0.10
MS | WAYNE | 28153 | 0.40
MS | WEBSTER | 28155 | 0.20
MS | WILKINSON | 28157 | 0.40
MS | WINSTON | 28159 | 0.20
MS | YALOBUSHA | 28161 | 0.10
MS | YAZOO | 28163 | 0.20
MO | BARRY | 29009 | 0.20
MO | BARTON | 29011 | 0.20
MO | BOLLINGER | 29017 | 0.20
MO | BUTLER | 29023 | 0.20
MO | CAPE GIRARDEAU | 29031 | 0.20
MO | CARTER | 29035 | 0.20
MO | CEDAR | 29039 | 0.20
MO | CHRISTIAN | 29043 | 0.20
MO | CRAWFORD | 29055 | 0.40
MO | DADE | 29057 | 0.20
MO | DALLAS | 29059 | 0.20
MO | DENT | 29065 | 0.40
MO | DOUGLAS | 29067 | 0.20
MO | DUNKLIN | 29069 | 0.50
MO | GREENE | 29077 | 0.20
MO | HOWELL | 29091 | 0.20
MO | IRON | 29093 | 0.40
MO | JASPER | 29097 | 0.20
MO | LACLEDE | 29105 | 0.20
MO | LAWRENCE | 29109 | 0.20
MO | MCDONALD | 29119 | 0.20
MO | MADISON | 29123 | 0.20
MO | MISSISSIPPI | 29133 | 0.50
MO | NEW MADRID | 29143 | 0.50
MO | NEWTON | 29145 | 0.20
MO | OREGON | 29149 | 0.20
MO | OZARK | 29153 | 0.20
MO | PEMISCOT | 29155 | 0.50
MO | PERRY | 29157 | 0.20
MO | POLK | 29167 | 0.20
MO | REYNOLDS | 29179 | 0.20
MO | RIPLEY | 29181 | 0.20
MO | SAINT FRANCOIS | 29187 | 0.40
MO | SCOTT | 29201 | 0.20
MO | SHANNON | 29203 | 0.20
MO | STODDARD | 29207 | 0.20
MO | STONE | 29209 | 0.20
MO | TANEY | 29213 | 0.20
MO | TEXAS | 29215 | 0.20
MO | VERNON | 29217 | 0.20
MO | WASHINGTON | 29221 | 0.40
MO | WAYNE | 29223 | 0.20
MO | WEBSTER | 29225 | 0.20
MO | WRIGHT | 29229 | 0.20
TN | BEDFORD | 47003 | 0.30
TN | BENTON | 47005 | 0.30
TN | BLEDSOE | 47007 | 0.60
TN | CANNON | 47015 | 0.30
TN | CARROLL | 47017 | 0.10
TN | CHEATHAM | 47021 | 0.30
TN | CHESTER | 47023 | 0.10
TN | CLAY | 47027 | 0.30
TN | COFFEE | 47031 | 0.60
TN | CROCKETT | 47033 | 0.30
TN | DAVIDSON | 47037 | 0.30
TN | DECATUR | 47039 | 0.30
TN | DE KALB | 47041 | 0.30
TN | DICKSON | 47043 | 0.30
TN | DYER | 47045 | 0.10
TN | FAYETTE | 47047 | 0.10
TN | FENTRESS | 47049 | 0.30
TN | FRANKLIN | 47051 | 0.40
TN | GIBSON | 47053 | 0.10
TN | GILES | 47055 | 0.40
TN | GRUNDY | 47061 | 0.60
TN | HARDEMAN | 47069 | 0.10
TN | HARDIN | 47071 | 0.10
TN | HAYWOOD | 47075 | 0.30
TN | HENDERSON | 47077 | 0.30
TN | HENRY | 47079 | 0.10
TN | HICKMAN | 47081 | 0.30
TN | HOUSTON | 47083 | 0.30
TN | HUMPHREYS | 47085 | 0.30
TN | JACKSON | 47087 | 0.30
TN | LAKE | 47095 | 0.10
TN | LAUDERDALE | 47097 | 0.30
TN | LAWRENCE | 47099 | 0.40
TN | LEWIS | 47101 | 0.30
TN | LINCOLN | 47103 | 0.40
TN | MCNAIRY | 47109 | 0.10
TN | MACON | 47111 | 0.30
TN | MADISON | 47113 | 0.30
TN | MARSHALL | 47117 | 0.30
TN | MAURY | 47119 | 0.30
TN | MONTGOMERY | 47125 | 0.30
TN | MOORE | 47127 | 0.40
TN | OBION | 47131 | 0.10
TN | OVERTON | 47133 | 0.30
TN | PERRY | 47135 | 0.30
TN | PICKETT | 47137 | 0.30
TN | PUTNAM | 47141 | 0.30
TN | ROBERTSON | 47147 | 0.30
TN | RUTHERFORD | 47149 | 0.30
TN | SHELBY | 47157 | 0.10
TN | SMITH | 47159 | 0.30
TN | STEWART | 47161 | 0.30
TN | SUMNER | 47165 | 0.30
TN | TIPTON | 47167 | 0.10
TN | TROUSDALE | 47169 | 0.30
TN | VAN BUREN | 47175 | 0.60
TN | WARREN | 47177 | 0.60
TN | WAYNE | 47181 | 0.40
TN | WEAKLEY | 47183 | 0.10
TN | WHITE | 47185 | 0.30
TN | WILLIAMSON | 47187 | 0.30
TN | WILSON | 47189 | 0.30

3. Amend § 1007.13 by revising paragraph (d) (1) through (4) to read as follows:

§ 1007.13 Producer milk.

* * * * *

(d) * * *

(1) In any month of January through June, not less than 1 days' production of the producer whose milk is diverted is physically received at a pool plant during the month;

(2) In any month of July through December, not less than 1 days' production of the producer whose milk diverted is physically received at a pool plant during the month;

(3) The total quantity of milk so diverted during the month by a cooperative association shall not exceed 25 percent during the months of July through November, January, and February, and 35 percent during the months of December and March through June, of the producer milk that the cooperative association caused to be delivered to, and physically received at, pool plants during the month;

(4) The operator of a pool plant that is not a cooperative association may divert any milk that is not under the control of a cooperative association that diverts milk during the month pursuant to paragraph (d) of this section. The total quantity of milk so diverted during the month shall not exceed 25 percent during the months of July through November, January, and February, and 35 percent during the months of December and March through June of the producer milk physically received at such plant (or such unit of plants in the case of plants that pool as a unit pursuant to § 1007.7 (e)) during the month, excluding the quantity of producer milk received from a handler described in § 1000.9 (c);

* * * * *

4. Amend § 1007.81 by revising (a) to read as follows:

§ 1007.81 Payments to the transportation credit balancing fund.

(a) On or before the 12th day after the end of the month (except as provided in § 1000.90), each handler operating a pool plant and each handler specified in § 1000.9 (c) shall pay to the market administrator a transportation credit balancing fund assessment determined by multiplying the pounds of Class I producer milk assigned pursuant to § 1007.44 by $0.30 per hundredweight or such lesser amount as the market administrator deems necessary to maintain a balance in the fund equal to the total transportation credits disbursed during the prior June-February period to reflect any changes in the current mileage rate versus the mileage rate(s) in effect during the prior June-February period. In the event that during any month of the June-February period the fund balance is insufficient to cover the amount of credits that are due, the assessment should be based upon the amount of credits that would have been disbursed had the fund balance been sufficient.

* * * * *

5. Amend § 1007.82 by revising paragraphs (a)(1), (b), (c)(1), (d)(2) (iii), (d)(3)(v), and redesignating paragraphs (c)(2)(ii), (c)(2)(iii), (c)(2)(iv) to read as (c)(2)(i), (c)(2)(ii) and (c)(2)(iii) to read as follows:

§ 1007.82 [Amended]

* * * * *

(a) * * *

(1) On or before the 13th day (except as provided in § 1000.90) after the end of each of the months of January, February and July through December and any other month in which transportation credits are in effect pursuant to paragraph (b) of this section, the market administrator shall pay to each handler that received, and reported pursuant to § 1007.30(a)(5), bulk milk transferred from a plant fully regulated under another Federal order as described in paragraph (c)(1) of this section or that received, and reported pursuant to § 1007.30(a)(6), milk directly from producers' farms as specified in paragraph (c)(2) of this section, a preliminary amount determined pursuant to paragraph (d) of this section to the extent that funds are available in the transportation credit balancing fund. If an insufficient balance exists to pay all of the credits computed pursuant to this section, the market administrator shall distribute the balance available in the transportation credit balancing fund by reducing payments pro rata using the percentage derived by dividing the balance in the fund by the total credits that are due for the month. The amount of credits resulting from this initial proration shall be subject to audit adjustment pursuant to paragraph (a)(2) of this section.

* * * * *

(4) * * *

(b) The Market Administrator may extend the period during which transportation credits are in effect (i.e., the transportation credit period) to the month of June if a written request to do so is received 15 days prior to the beginning of the month for which the request is made and, after conducting an independent investigation, finds that such extension is necessary to assure the market of an adequate supply of milk for fluid use. Before making such a finding, the Market Administrator shall notify the Director of the Dairy Division and all handlers in the market that an extension is being considered and invite written data, views, and arguments. Any decision to extend the transportation credit period must be issued in writing prior to the first day of the month for which the extension is to be effective.

(c) * * *

(1) Bulk milk received from a plant regulated under another Federal order, except Federal Order 1005; and

(2) Bulk milk received directly from the farms of dairy farmers at pool distributing plants subject to the following conditions:

(i) The farmer was not a “producer” under this order for more than 45 days during the immediately preceding months of March through May, or not more than 50 percent of the production of the dairy farmer during those 3 months, in aggregate, was received as producer milk under this order during those 3 months; and

(ii) The farm on which the milk was produced is not located within the specified marketing area of the order in this part or the marketing area of Federal Order 1005 (7 CFR part 1005).

(iii) The market administrator may increase or decrease the milk production standard specified in paragraph (c)(2)(i) of this section if the market administrator finds that such revision is necessary to assure orderly marketing and efficient handling of milk in the marketing area. Before making such a finding, the market administrator shall investigate the need for the revision either on the market administrator's own initiative or at the request of interested persons. If the investigation shows that a revision might be appropriate, the market administrator shall issue a notice stating that the revision is being considered and inviting written data, views, and arguments. Any decision to revise an applicable percentage must be issued in writing at least one day before the effective date.

(d) * * *

(iii) Subtract the applicable Class I price specified in § 1007.51 for the county in which the shipping plant is located from the Class I price applicable for the county in which the receiving plant is located;

(3) * * *

(v) Subtract the Class I price specified in § 1007.51 applicable for the county in which the origination point is located from the Class I price applicable at the receiving pool plant's location;

* * * * *

Proposed by Dairy Cooperative Marketing Association, Inc.

Proposal No. 3

This proposal would temporarily adjust the Class I pricing surface in each county within the geographical marketing area of the Florida milk marketing order. Specifically, this proposal would, on a temporary basis, modify section 1006.51 of the Florida order by including a new provision, a “Class I price adjustment,” which would be added to the Class I price “mover,” and to the section 1000.52 Class I differential, to obtain the minimum Order Class I price. Proposed changes to the Class I prices for plant locations in the Florida order would range from an increase of $1.30 per cwt to an increase of $1.70 per cwt.

1. Amend § 1006.50 by revising paragraph (b) and (c) to read as follows:

§ 1006.50 Class prices, component prices, and advanced pricing factors.

* * * * *

(b) Class I skim milk price. The Class I skim milk price per hundredweight shall be the adjusted Class I differential specified in § 1000.52 plus the adjustment to Class I prices specified in § 1006.51 (b) plus the higher of the advanced pricing factors computed in paragraph (q) (1) or (2) of this section.

(c) Class I butterfat price. The Class I butterfat price per pound shall be the adjusted Class I differential specified in § 1000.52 divided by 100, plus the adjustment to Class I prices specified in § 1006.51(b) divided by 100, plus the advanced butterfat price computed in paragraph (q) (3) of this section.

* * * * *

2. Amend § 1006.51 by renaming the section, designating the first subsection as (a), amending the language, and adding a new subsection (b) to read as follows:

§ 1006.51 Class I differential, adjustments to Class I prices, and Class I price.

(a) The Class I differential shall be the differential established for Hillsborough County, Florida, which is reported in § 1000.52. The Class I price shall be the price computed pursuant to § 1006.50 (a) for Hillsborough County, Florida.

(b) Adjustment to Class I prices. Class I prices shall be established pursuant to § 1006.50 (a), (b) and (c) using the following adjustments:

State | County/parish | FIPS | Class I price adjustment
FL | ALACHUA | 12001 | 1.30
FL | BAKER | 12003 | 1.30
FL | BAY | 12005 | 0.60
FL | BRADFORD | 12007 | 1.30
FL | BREVARD | 12009 | 1.40
FL | BROWARD | 12011 | 1.70
FL | CALHOUN | 12013 | 0.60
FL | CHARLOTTE | 12015 | 1.50
FL | CITRUS | 12017 | 1.40
FL | CLAY | 12019 | 1.30
FL | COLLIER | 12021 | 1.70
FL | COLUMBIA | 12023 | 1.30
FL | DADE | 12025 | 1.70
FL | DE SOTO | 12027 | 1.80
FL | DIXIE | 12029 | 1.30
FL | DUVAL | 12031 | 1.30
FL | FLAGLER | 12035 | 1.00
FL | FRANKLIN | 12037 | 0.90
FL | GADSDEN | 12039 | 0.90
FL | GILCHRIST | 12041 | 1.30
FL | GLADES | 12043 | 1.50
FL | GULF | 12045 | 0.90
FL | HAMILTON | 12047 | 1.30
FL | HARDEE | 12049 | 1.80
FL | HENDRY | 12051 | 1.70
FL | HERNANDO | 12053 | 1.40
FL | HIGHLANDS | 12055 | 1.80
FL | HILLSBOROUGH | 12057 | 1.40
FL | HOLMES | 12059 | 0.60
FL | INDIAN RIVER | 12061 | 1.80
FL | JACKSON | 12063 | 0.60
FL | JEFFERSON | 12065 | 0.90
FL | LAFAYETTE | 12067 | 1.30
FL | LAKE | 12069 | 1.40
FL | LEE | 12071 | 1.70
FL | LEON | 12073 | 0.90
FL | LEVY | 12075 | 1.00
FL | LIBERTY | 12077 | 0.90
FL | MADISON | 12079 | 1.30
FL | MANATEE | 12081 | 1.80
FL | MARION | 12083 | 1.00
FL | MARTIN | 12085 | 1.50
FL | MONROE | 12087 | 1.70
FL | NASSAU | 12089 | 1.30
FL | OKEECHOBEE | 12093 | 1.80
FL | ORANGE | 12095 | 1.40
FL | OSCEOLA | 12097 | 1.40
FL | PALM BEACH | 12099 | 1.70
FL | PASCO | 12101 | 1.40
FL | PINELLAS | 12103 | 1.40
FL | POLK | 12105 | 1.40
FL | PUTNAM | 12107 | 1.30
FL | SAINT JOHNS | 12109 | 1.30
FL | SAINT LUCIE | 12111 | 1.80
FL | SARASOTA | 12115 | 1.80
FL | SEMINOLE | 12117 | 1.40
FL | SUMTER | 12119 | 1.40
FL | SUWANNEE | 12121 | 1.30
FL | TAYLOR | 12123 | 1.30
FL | UNION | 12125 | 1.30
FL | VOLUSIA | 12127 | 1.40
FL | WAKULLA | 12129 | 0.90
FL | WASHINGTON | 12133 | 0.60

Proposed by the Appalachian Market Administrator

Proposal No. 4

This proposal seeks to increase the maximum administrative assessment from the current 5 cents per cwt to a maximum of 8 cents per cwt for the Appalachian milk marketing order.

Revise § 1005.85 to read as follows:

§ 1005.85 Assessment for order administration.

On or before the payment receipt date specified under § 1005.71, each handler shall pay to the market administrator its pro rata share of the expense of administration of the order at a rate specified by the market administrator that is no more than 8 cents per hundredweight with respect to:

(a) Receipts of producer milk (including the handler's own production) other than such receipts by a handler described in § 1000.9 (c) that were delivered to pool plants of other handlers;

(b) Receipts from a handler described in § 1000.9 (c);

(c) Receipts of concentrated fluid milk products from unregulated supply plants and receipts of nonfluid milk products assigned to Class I use pursuant to § 1000.43 (d) and other source milk allocated to Class I pursuant to § 1000.44 (a) (3) and (8) and the corresponding steps of § 1000.44 (b), except other source milk that is excluded from the computations pursuant to § 1005.60 (h) and (i); and

(d) Route disposition in the marketing area from a partially regulated distributing plant that exceeds the skim milk and butterfat subtracted pursuant to 1000.76 (a) (1) (i) and (ii)

Proposed by the Southeast Market Administrator

Proposal No. 5

This proposal seeks to increase the maximum administrative assessment from the current 5 cents per cwt to a maximum of 8 cents per cwt for the Southeast milk marketing order.

Revise § 1007.85 to read as follows:

§ 1007.85 Assessment for order administration.

On or before the payment receipt date specified under § 1007.71, each handler shall pay to the market administrator its pro rata share of the expense of administration of the order at a rate specified by the market administrator that is no more than 8 cents per hundredweight with respect to:

(a) Receipts of producer milk (including the handler's own production) other than such receipts by a handler described in § 1000.9 (c) that were delivered to pool plants of other handlers;

(b) Receipts from a handler described in § 1000.9 (c);

(c) Receipts of concentrated fluid milk products from unregulated supply plants and receipts of nonfluid milk products assigned to Class I use pursuant to § 1000.43(d) and other source milk allocated to Class I pursuant to § 1000.44(a)(3) and (8) and the corresponding steps of § 1000.44(b), except other source milk that is excluded from the computations pursuant to § 1007.60 (h) and (i); and

(d) Route disposition in the marketing area from a partially regulated distributing plant that exceeds the skim milk and butterfat subtracted pursuant to 1000.76 (a) (1) (i) and (ii)

Proposed by the Florida Market Administrator

Proposal No. 6

This proposal seeks to increase the maximum administrative assessment from the current 5 cents per cwt to a maximum of 8 cents per cwt for the Florida milk marketing order.

Revise § 1006.85 to read as follows:

§ 1006.85 Assessment for order administration.

On or before the payment receipt date specified under § 1006.71, each handler shall pay to the market administrator its pro rata share of the expense of administration of the order at a rate specified by the market administrator that is no more than 8 cents per hundredweight with respect to:

(a) Receipts of producer milk (including the handler's own production) other than such receipts by a handler described in § 1000.9 (c) that were delivered to pool plants of other handlers;

(b) Receipts from a handler described in § 1000.9 (c);

(c) Receipts of concentrated fluid milk products from unregulated supply plants and receipts of nonfluid milk products assigned to Class I use pursuant to § 1000.43 (d) and other source milk allocated to Class I pursuant to § 1000.44 (a) (3) and (8) and the corresponding steps of § 1000.44 (b), except other source milk that is excluded from the computations pursuant to § 1006.60 (h) and (i); and

(d) Route disposition in the marketing area from a partially regulated distributing plant that exceeds the skim milk and butterfat subtracted pursuant to 1000.76 (a) (1) (i) and (ii)

Proposal by Dairy Programs, Agricultural Marketing Service

Proposal No. 7

Make such changes as may be necessary to make the entire marketing agreement and the order conform with any amendments thereto that may result from this hearing.

Copies of this notice of hearing and the orders may be procured from the Market Administrator of the aforesaid marketing areas, or from the Hearing Clerk, United States Department of Agriculture, Room 1083—STOP 9200, 1400 Independence Avenue, SW., Washington, DC 20250-9200, or may be inspected there.

Copies of the transcript of testimony taken at the hearing will not be available for distribution through the Hearing Clerk's Office. If you wish to purchase a copy, arrangements may be made with the reporter at the hearing.

From the time that a hearing notice is issued and until the issuance of a final decision in a proceeding, Department employees involved in the decision-making process are prohibited from discussing the merits of the hearing issues on an ex parte basis with any person having an interest in the proceeding. For this particular proceeding, the prohibition applies to employees in the following organizational units:

Office of the Secretary of Agriculture

Office of the Administrator, Agricultural Marketing Service

Office of the General Counsel

Dairy Programs, Agricultural Marketing Service (Washington office) and the Offices of all Market Administrators.

Procedural matters are not subject to the above prohibition and may be discussed at any time.

Dated: May 3, 2007.
Lloyd C. Day,
Administrator, Agricultural Marketing Service.

[FR Doc. E7-8802 Filed 5-7-07; 8:45 am]

BILLING CODE 3410-02-P